SOCIAL SECURITY ADMINISTRATION

Benefits Planning, Assistance and Outreach (BPAO) Meeting

AGENCY: Social Security Administration (SSA).

ACTION: Notice of meeting.

DATES: January 13, 2005, 12 p.m.-4 p.m.

ADDRESSES: International Trade Center (ITC) Bldg., Conference Room 839, 500 E Street, SW., Washington, DC 20254.

SUPPLEMENTARY INFORMATION:

Type of meeting: This is an informational meeting open to all interested parties. Interested parties are invited to participate by coming to the address listed above or by teleconferencing. Public comment will be taken.

Purpose: SSA announces a meeting to solicit public input regarding the reauthorization of the Benefits Planning, Assistance and Outreach (BPAO) Program. Section 1149(d) of the Social Security Act (as added by section 121 of the Ticket to Work and Work Incentives Improvement Act (TWWIAA) of 1999, Public Law (Pub. L.) 106-170) required SSA to establish community based benefits planning, assistance and outreach projects in every State, the District of Columbia, Puerto Rico, Guam, the Northern Mariana Islands, American Samoa, and the U.S. Virgin Islands. Section 407 of the Social Security Protection Act (Pub. L. 108-203) recently extended the authorization of these programs.

SSA will solicit public input during this meeting regarding the new BPAO Request for Application (RFA) process, including what services should be provided by projects in support of beneficiaries, with disabilities, in their return to work efforts and what are the preferred characteristics of the organizations providing such services. Interested parties may also submit input in writing at http://www.socialsecurity.gov/work.

Since seating may be limited, persons interested in providing comments at the meeting should contact SSA Project Officer, Odessa Doaty, via e mail at: Odessa.Doaty@ssa.gov or by calling: (410) 966-8333 prior to the meeting date.

The full agenda for the meeting will be posted on the Internet at http://www.socialsecurity.gov/work, at least one week before the meeting, or can be received in advance electronically or by fax upon request. Teleconference call-in information will also be available at that time for interested parties who would like to participate through this venue.

Contact Information: Anyone requiring information regarding the meeting should contact Odessa Doaty, SSA Project Officer, at (410) 966-8333. Transcripts will be kept of the proceedings and will be available for public inspection at http://www.socialsecurity.gov/work no later than thirty (30) days following the meeting.

If accommodations are needed, please contact Odessa Doaty no later than ten (10) business days prior to the meeting. Ms. Doaty may be contacted by:

• Mail address: Odessa Doaty, Social Security Administration, 6401 Security Blvd., Room 107 Altmeyer Bldg, Baltimore, MD 21235.

• Phone: (410) 966-8333.

• Fax : (410) 966-1278.

• E-mail: Odessa.Doaty@ssa.gov.

Dated: December 16, 2004.
Martin H. Gerry,
Deputy Commissioner for Disability and Income Security Programs.

[FR Doc. 04-28470 Filed 12-28-04; 8:45 am]

BILLING CODE 4191-02-P